DEPARTMENT OF VETERANS AFFAIRS

Advisory Committee on Former Prisoners of War; Notice of Meeting

The Department of Veterans Affairs gives notice under Public Law 92-463 (Federal Advisory Committee Act) that the Advisory Committee on Former Prisoners of War has scheduled a meeting for October 22-24, 2007 in the auditorium (Room A036) at the Department of Veterans Affairs Medical Center, 1601 SW., Archer Road, Gainesville, Florida. The meeting will be held from 9 a.m. to 4 p.m. each day. The meeting is open to the public.

The purpose of the Committee is to advise the Secretary of Veterans Affairs on the administration of benefits under title 38, United States Code, for veterans who are former prisoners of war, and to make recommendations on the needs of such veterans for compensation, health care, and rehabilitation.

The agenda for October 22 will include an introduction of committee members, remarks from dignitaries, review of committee reports, an update of activities since the last meeting, and a period for FPOW veterans and/or the public to address the Committee. On October 23, the Committee will hear a presentation from the Robert E. Mitchell Center for Prisoner of War Studies. The day will conclude with new business and general discussion. On October 24, the Committee's medical and administrative work groups will meet to discuss their activities and then will report back to the Committee in the afternoon. Additionally, the Committee will review comments discussed throughout the meeting to compile a report to be sent to the Secretary.

Members of the public may submit written statements for review by the Committee in advance of the meeting to Mr. Bradley G. Mayes, Director, Compensation and Pension Service, Department of Veterans Affairs, 810 Vermont Avenue, NW., Washington, DC 20420. Submitted materials must be received by October 10, 2007.

Dated: September 26, 2007.
By Direction of the Secretary
E. Philip Riggin,
Committee Management Officer.

[FR Doc. 07-4849 Filed 10-1-07; 8:45 am]

BILLING CODE 8320-01-M